DEPARTMENT OF ENERGY

Federal Energy Regulatory Commission

[Project No. 5124-022]

Washington Electric Cooperative, Inc.; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Subsequent Minor License.

b. Project No.: 5124-022.

c. Date Filed: October 30, 2020.

d. Applicant: Washington Electric Cooperative, Inc. (WEC).

e. Name of Project: North Branch No. 3 Hydroelectric Project.

f. Location: On the North Branch Winooski River in Washington County, Vermont. The project does not affect federal lands.

g. Filed Pursuant to: Federal Power Act 16 U.S.C. 791 (a)-825(r).

h. Applicant Contact: Ms. Patricia Richards, General Manager, Washington Electric Cooperative, Inc., P.O. Box 8, 40 Church Street East Montpelier, Vermont 05651; phone: (802) 223-5245 or email at patty.richards@wec.coop.

i. FERC Contact: Michael Tust at (202) 502-6522; or email at michael.tust@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on July 15, 2020, revising the regulations under 40 CFR parts 1500—1518 that federal agencies use to implement NEPA (see Update to the Regulations Implementing the Procedural Provisions of the National Environmental Policy Act, 85 FR 43,304). The Final Rule became effective on and applies to any NEPA process begun after September 14, 2020. An agency may also apply the regulations to ongoing activities and environmental documents begun before September 14, 2020, which includes the proposed North Branch No. 3 Project relicensing. Commission staff intends to conduct its NEPA review in accordance with CEQ's new regulations.

l. The existing North Branch 3 Project is located at the 115-foot-high, 1,525-foot-long Wrightsville Dam and consists of the following constructed facilities: A 445-foot-long, 5-foot-diameter steel aboveground penstock emerging from the base of the dam that conveys water to a 1,320-square-foot partially-buried project powerhouse containing three fixed blade turbines with rated capacities of 96, 259, and 578-kilowatts (kW) for a total installed capacity of 933 kW; a 750 square-foot substation located adjacent to the powerhouse that steps up the voltage from 4.16 kilovolts (kV) to 12.5 kV; a 450-foot-long, 12.5-kV transmission line; and appurtenant facilities.

WEC proposes to continue to operate its three turbine units to replicate near run-of-river operations and continue to maintain its existing minimum flows both within the bypassed reach (i.e., 3.4 cfs) and downstream of the powerhouse (i.e., 25 cfs). However, WEC proposes to modify operations by using its minimum flow gate to release more flow into the bypassed reach (up to 25 cfs) as generating units are turned on and off to reduce flow fluctuations downstream of the powerhouse. WEC also proposes to maintain the reservoir between an elevation of 634 and 635 feet year-round (rather than operating between 633-635 feet) and would cease all generation when reservoir levels fall below 634 feet.

WEC also proposes to bring the following existing facilities into the project boundary as project structures: The trash racks with one-inch spacing and the 9.5-foot by 6.5-foot headgate located within the non-project hydropower bay at the intake; the 1.3-foot by 1.5-foot automated minimum flow gate located at the base of the wall separating the two intake chambers used to pass minimum flows to the bypassed reach; the 100 square-foot hydraulic house located within the dam housing a hydraulic pump and controls used to operate the project headgate and minimum flow gate; and the 550-foot-long dirt road used to access the intake structure.

m. A copy of the application can viewed on the Commission's website at http://www.ferc.gov using the “eLibrary” link. Enter the docket number excluding the last three digits in the docket number field to access the document. For assistance, contact FERC Online Support.

Register online at https://ferconline.ferc.gov/FERCOnline.aspx to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural schedule:

The application will be processed according to the following preliminary Hydro Licensing Schedule. Revisions to the schedule will be made as appropriate.

Milestone | Target date
Deadline for filing comments, recommendations, preliminary terms and conditions, and preliminary fishway prescriptions | 3/29/2021
Deadline for Filing Reply Comments | 5/13/2021

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification. Please note that the certification request must be sent to the certifying authority and to the Commission concurrently.

Dated: January 28, 2021.
Nathaniel J. Davis, Sr.,
Deputy Secretary.

[FR Doc. 2021-02223 Filed 2-2-21; 8:45 am]

BILLING CODE 6717-01-P